ENVIRONMENTAL PROTECTION AGENCY

40 CFR Parts 52 and 70

[EPA-R07-OAR-2010-0176; FRL-9248-6]

Approval and Promulgation of Implementation Plan and Operating Permits Program; State of Missouri

AGENCY: Environmental Protection Agency (EPA).

ACTION: Direct final rule.

SUMMARY: EPA is taking direct final action to approve a revision to Missouri's State Implementation Plan (SIP) and Operating Permits Program. EPA is approving the rescission of initial compliance dates in the Missouri SIP. These requirements were established more than thirty years ago and are obsolete. EPA is also approving revisions to the Operating Permits Program to change the reporting threshold for small sources and remove references to the requirement to annually set the emission fee. Approval of these revisions will ensure consistency between the State and the Federally-approved rules.

DATES: This direct final rule will be effective March 25, 2011, without further notice, unless EPA receives adverse comment by February 23, 2011. If adverse comment is received, EPA will publish a timely withdrawal of the direct final rule in the Federal Register informing the public that the rule will not take effect.

ADDRESSES: Submit your comments, identified by Docket ID No. EPA-R07-OAR-2010-0176, by one of the following methods:

1. http://www.regulations.gov. Follow the on-line instructions for submitting comments.

2. E-mail: wolfersberger.chris@epa.gov.

3. Mail or Hand Delivery: Chrissy Wolfersberger, Environmental Protection Agency, Air Planning and Development Branch, 901 North 5th Street, Kansas City, Kansas 66101.

Instructions: Direct your comments to Docket ID No. EPA-R07-OAR-2010-0176. EPA's policy is that all comments received will be included in the public docket without change and may be made available online at http://www.regulations.gov, including any personal information provided, unless the comment includes information claimed to be Confidential Business Information (CBI) or other information whose disclosure is restricted by statute. Do not submit through http://www.regulations.gov or e-mail information that you consider to be CBI or otherwise protected. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy at the Environmental Protection Agency, Air Planning and Development Branch, 901 North 5th Street, Kansas City, Kansas 66101. The Regional Office's official hours of business are Monday through Friday, 8 to 4:30 excluding Federal holidays. The interested persons wanting to examine these documents should make an appointment with the office at least 24 hours in advance.

FOR FURTHER INFORMATION CONTACT: Chrissy Wolfersberger at (913) 551-7864, or by e-mail at wolfersberger.chris@epa.gov.

SUPPLEMENTARY INFORMATION: Throughout this document “we,” “us,” or “our” refer to EPA. This section provides additional information by addressing the following questions:

What is being addressed in this document?

What action is EPA taking?

What is being addressed in this document?

EPA is approving revisions to the Missouri SIP and Operating Permits Program. Revisions to the Missouri SIP rescind three rules related to the time schedule for initial compliance for sources existing at the time of promulgation of the original rules. The purpose of these rules was to establish compliance schedules for sources that were in operation more than 30 years ago. (For example, 10 CSR 10-5.250 required existing sources to comply with emissions limitation no later than January 31, 1973, if they emitted sulfur dioxide from the use of fuel.) These rules are identified in the approved SIP as 10 CSR 10-2.150, 4.140, and 5.250, applicable to the Kansas City, Springfield, and St. Louis areas. These rules are obsolete and no longer needed, as compliance dates are contained in other State rules, or, if there is no date specified, is the effective date of the rule. Removing them does not adversely affect the stringency of the SIP. EPA is approving Missouri's request to remove the corresponding Federally-approved rules from the Missouri SIP.

EPA is also approving revisions to the Operating Permits Program (10 CSR 10-6.110). One revision changes the reporting threshold for small sources, so that small sources are allowed to fill out a short emissions form instead of a long form if they increase or decrease emissions under a certain threshold. The threshold would change from an increase of 20 percent of emissions from the prior year to 5 tons from the prior year. Sources with small baseline emissions might have substantial percentage increases, but very small tonnage increases. This revision allows small sources to continue to report emissions using a shorter form. The second revision removes references to the requirement to annually set the emission fee, because the Missouri statute does not require an annual fee adjustment unless determined necessary by the Air Conservation Commission.

What action is EPA taking?

EPA is approving the request to amend the Missouri SIP by removing three rules related to the time schedule for compliance and approving the request to amend the operating permits program by changing the reporting threshold for small sources and removing references to the requirement to annually set the emission fee.

Approval of these revisions will ensure consistency between State and Federally-approved rules. EPA has determined that these changes will not relax the SIP or adversely impact air emissions.

We are processing this action as a direct final action because the revisions make routine changes to the existing rules which are noncontroversial and make regulatory revisions, required by State statute. Therefore, we do not anticipate any adverse comments. Please note that if EPA receives adverse comment on part of this rule and if that part can be severed from the remainder of the rule, EPA may adopt as final those parts of the rule that are not the subject of an adverse comment.

Statutory and Executive Order Reviews

Under the CAA, the Administrator is required to approve a SIP submission that complies with the provisions of the Act and applicable Federal regulations. 42 U.S.C. 7410(k); 40 CFR 52.02(a). Thus, in reviewing SIP submissions, EPA's role is to approve State choices, provided that they meet the criteria of the CAA. Accordingly, this action merely approves State law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have Tribal implications as specified by Executive Order 13175 (65 FR 67249, November 9, 2000), because the SIP is not approved to apply in Indian country located in the State, and EPA notes that it will not impose substantial direct costs on Tribal governments or preempt Tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by March 25, 2011. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects

40 CFR Part 52

Environmental protection, Air pollution control, Carbon monoxide, Incorporation by reference, Intergovernmental relations, Nitrogen dioxide, Ozone, Particulate matter, Reporting and recordkeeping requirements, Volatile organic compounds.

40 CFR Part 70

Administrative practice and procedure, Air pollution control, Intergovernmental relations, Operating permits, Reporting and recordkeeping requirements.

Dated: December 27, 2010.
Karl Brooks,
Regional Administrator, Region 7.

Chapter I, Title 40 of the Code of Federal Regulations is amended as follows:

PART 52—[AMENDED]

1. The authority citation for Part 52 continues to read as follows:

Authority: 42 U.S.C. 7401 et seq.

Subpart AA—Missouri

2. In § 52.1320(c) the table is amended by revising the entries under Chapter 2 for “10-2.150,” under Chapter 4 for “10-4.140,” and under Chapter 5 for “10-5.250”. The amended table reads as follows:

§ 52.1320 Identification of plan.

* * * * *

(c) * * *

EPA-Approved Missouri Regulations
Missouri citation | Title | State effective date | EPA approval date | Explanation
Missouri Department of Natural Resources
* * * * * * *
Chapter 2—Air Quality Standards and Air Pollution Control Regulations for the Kansas City Metropolitan Area
* * * * * * *
10-2.150 | Time Schedule for Compliance | 12/30/2008 | 1/24/11 [insert FR page number where the document begins] | The State has rescinded this rule.
* * * * * * *
Chapter 4—Air Quality Standards and Air Pollution Control Regulations for Springfield-Greene County Area
* * * * * * *
10-4.140 | Time Schedule for Compliance | 12/30/2008 | 1/24/11 [insert FR page number where the document begins] | The State has rescinded this rule.
* * * * * * *
Chapter 5—Air Quality Standards and Air Pollution Control Regulations for the St. Louis Metropolitan Area
10-5.250 | Time Schedule for Compliance | 12/30/2008 | 1/24/11 [insert FR page number where the document begins] | The State has rescinded this rule.
* * * * * * *

* * * * *

PART 70—[AMENDED]

3. The authority citation for part 70 continues to read as follows:

Authority: 42 U.S.C. 7401 et seq.

Appendix A—[Amended]

4. Appendix A to part 70 is amended by adding paragraph (y) under Missouri to read as follows:

Appendix A to Part 70—Approval Status of State and Local Operating Permits Programs

* * * * *

Missouri

* * * * *

(y) The Missouri Department of Natural Resources submitted revisions to Missouri rule 10 CSR 10-6.110, “Submission of Emission Data, Emission Fees, and Process Information” on December 30, 2008; approval of section (3)(D) effective March 25, 2011.

* * * * *

[FR Doc. 2011-229 Filed 1-21-11; 8:45 am]

BILLING CODE 6560-50-P